DEPARTMENT OF COMMERCE

International Trade Administration

[A-580-891]

Carbon and Alloy Steel Wire Rod From the Republic of Korea: Final Results of Antidumping Duty Administrative Review; 2017-2019

AGENCY: Enforcement and Compliance, International Trade Administration, Department of Commerce.

SUMMARY: The Department of Commerce (Commerce) determines that POSCO, a producer and exporter of carbon and alloy steel wire rod from the Republic of Korea (Korea) sold the subject merchandise at prices below normal value during the period of review (POR), October 31, 2017, through April 30, 2019.

DATES: Applicable March 23, 2021.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On July 24, 2020, Commerce published the Preliminary Results ¹ covering the sole producer and exporter of the subject merchandise subject to the review, POSCO. We invited interested parties to comment on the Preliminary Results. On September 28 and October 9, 2020, the petitioners ² and POSCO filed case and rebuttal briefs.³ On January 14 and 21, 2021, we held video conferences with the counsels for POSCO and the petitioners, respectively.⁴ Commerce conducted this review in accordance with section 751(a) of the Tariff Act of 1930, as amended (the Act).

¹ See Carbon and Alloy Steel Wire Rod from the Republic of Korea: Preliminary Results of Antidumping Duty Administrative Review; 2017-2019, 85 FR 44858 (July 24, 2020), and accompanying Preliminary Decision Memorandum.

² The petitioners are Charter Steel, Liberty Steel USA, Nucor Corporation, and Optimus Steel LLC (collectively, the petitioners).

³ See Petitioners' Letter, “Carbon and Alloy Steel Wire Rod from the Republic of Korea—Petitioners' Case Brief,” dated September 28, 2020; see also POSCO's Letter, “Carbon and Alloy Steel Wire Rod from the Republic of Korea—POSCO's Case Brief,” dated September 28, 2020; Petitioners' Letter, “Carbon and Alloy Steel Wire Rod from the Republic of Korea—Petitioners' Rebuttal Brief,” dated October 9, 2020; and POSCO's Letter, “Carbon and Alloy Steel Wire Rod from the Republic of Korea—POSCO's Rebuttal Brief,” dated October 9, 2020.

⁴ See Memoranda, “Carbon and Alloy Steel Wire Rod from the Republic of Korea—Ex Parte Meeting with POSCO's Counsel,” dated January 15, 2021, and “Carbon and Alloy Steel Wire Rod from the Republic of Korea—Ex Parte Meeting with Petitioners' Counsel,” dated January 21, 2021.

On April 24, 2020, Commerce tolled all deadlines in administrative reviews by 50 days.⁵ Subsequently, on July 21, 2020, Commerce tolled all preliminary and final results in administrative reviews by an additional 60 days.⁶ On December 1, 2020, we extended the deadline for issuing the final results until March 17, 2021.⁷

⁵ See Memorandum, “Tolling of Deadlines for Antidumping and Countervailing Duty Administrative Reviews in Response to Operational Adjustments Due to COVID-19,” dated April 24, 2020.

⁶ See Memorandum, “Tolling of Deadlines for Antidumping and Countervailing Duty Administrative Reviews,” dated July 21, 2020 (the deadline for the final results was actually tolled by 57 days because the tolling started three day before the publication date of the Preliminary Results).

⁷ See Memorandum, “Carbon and Alloy Steel Wire Rod from the Republic of Korea—Extension of Deadline for Final Results,” dated December 1, 2020.

Scope of the Order ⁸

⁸ See Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018) (Order).

The scope of the Order includes certain hot-rolled products of carbon steel and alloy steel, in coils, of approximately round cross section, less than 19.00 mm in actual solid cross-sectional diameter. On April 8, 2019, Commerce excluded from the scope of the Order grade 1078 and higher tire cord quality wire rod used in the production of tire cord wire.⁹ On June 13, 2019, Commerce excluded from the scope of the Order valve spring quality steel products defined as wire rod.¹⁰ For a complete description of the scope of the Order, see the Issues and Decision Memorandum.¹¹

⁹ See Carbon and Alloy Steel Wire Rod from the Republic of Korea and the United Kingdom: Notice of Final Results of Antidumping Duty Changed Circumstances Review, 84 FR 13888 (April 8, 2019).

¹⁰ See Carbon and Alloy Steel Wire Rod from the Republic of Korea: Final Results of Antidumping Duty Changed Circumstances Review; 84 FR 27582 (June 13, 2019).

¹¹ See Memorandum, “Issues and Decision Memorandum for the Final Results of Administrative Review of the Antidumping Duty Order on Carbon and Alloy Steel Wire Rod from the Republic of Korea; 2017-2019,” dated concurrently with, and hereby adopted by, this notice (Issues and Decision Memorandum).

Analysis of Comments Received

We addressed all issues raised in the case and rebuttal briefs in the Issues and Decision Memorandum. A list of these issues is attached in an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html.

Changes Since the Preliminary Results

We made two changes to the preliminary margin calculation: (1) We refined conversion costs by diameters using ratios derived from the reported production-line-month specific costs; (2) we corrected the beginning date for U.S. sales. For a full discussion of these changes, see Comments 1 and 2 in the Issues and Decision Memorandum.

Final Results of the Review

Commerce determines that the following weighted-average dumping margin exists for the period October 31, 2017 through April 30, 2019:

Producer and/or exporter | Weighted- average dumping margin (percent)
POSCO | 0.94

Disclosure

We intend to disclose the calculations performed for the final results of review within five days of the publication date of this notice in the Federal Register, in accordance with section 751(a) of the Act and 19 CFR 351.224(b).

Assessment Rates

Pursuant to section 751(a)(2)(C) of the Act and 19 CFR 351.212(b), Commerce shall determine, and U.S. Customs and Border Protection (CBP) shall assess, antidumping duties on all appropriate entries of subject merchandise in accordance with the final results of this review.¹² In accordance with 19 CFR 351.212(b)(1), Commerce calculated an importer-specific ad valorem antidumping assessment rate for POSCO that is not zero or de minimis, and will instruct CBP to assess antidumping duties on all appropriate entries covered by this review.

¹² See Antidumping Proceeding: Calculation of the Weighted-Average Dumping Margin and Assessment Rate in Certain Antidumping Duty Proceedings; Final Modification, 77 FR 8101 (February 14, 2012).

Consistent with Commerce's assessment practice, for entries of subject merchandise during the POR produced by POSCO for which it did not know that the merchandise was destined for the United States, we will instruct CBP to liquidate unreviewed entries at the all-others rate if there is no rate for the intermediate company(ies) involved in the transaction.¹³

¹³ See Antidumping and Countervailing Duty Proceedings: Assessment of Antidumping Duties, 68 FR 23954 (May 6, 2003).

Consistent with its recent notice,¹⁴ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁴ See Notice of Discontinuation of Policy to Issue Liquidation Instructions After 15 Days in Applicable Antidumping and Countervailing Duty Administrative Proceedings, 86 FR 3995 (January 15, 2021).

Cash Deposit Requirements

The following cash deposit requirements will be effective for all shipments of subject merchandise entered, or withdrawn from warehouse, for consumption on or after the publication date of the final results of this administrative review, as provided by section 751(a)(2)(C) of the Act: (1) The cash deposit rate for POSCO is equal to the weighted-average dumping margin established in the final results of this review; (2) for previously investigated companies not participating in this review, the cash deposit rate will continue to be the company-specific rate published for the most recently completed segment of this proceeding; (3) if the exporter was not covered in this review or the investigation, but the producer was covered, the cash deposit rate will be the rate established in the most recently completed segment of this proceeding for the producer of subject merchandise; and (4) the cash deposit rate for all other producers or exporters will continue to be 41.10 percent, the all-others rate established in the original less-than-fair-value investigation.¹⁵ These cash deposit requirements, when imposed, shall remain in effect until further notice.

¹⁵ See Order.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.213(h) and 351.221(b)(5).

Dated: March 16, 2021.
Christian Marsh,
Acting Assistant Secretary for Enforcement and Compliance.

Appendix

List of Topics Discussed in the Issues and Decision Memorandum

I. Summary

II. Background

III. Scope of the Order

IV. Changes Since the Preliminary Results

V. Discussion of Issues

Comment 1: Whether Commerce Should Apply AFA to POSCO's Reported Cost

Comment 2: Whether the Beginning Dates in the Margin Program are Correct

Comment 3: Whether U.S. Sales of Further-Manufactured Merchandise Should be Excluded

Comment 4: Whether to Grant POSCO a Constructed Export Price (CEP) Offset

VI. Recommendation

[FR Doc. 2021-05960 Filed 3-22-21; 8:45 am]

BILLING CODE 3510-DS-P